ENVIRONMENTAL PROTECTION AGENCY

[FRL-10012-01-Region 5]

Public Water System Supervision Program Approval for the State of Illinois

AGENCY: Environmental Protection Agency (EPA).

ACTION: Notice of tentative approval.

SUMMARY: Notice is hereby given that the Environmental Protection Agency (EPA) tentatively approved a revision to the state of Illinois Public Water System Supervision Program under the federal Safe Drinking Water Act (SDWA) by adopting the Consumer Confidence Report Rule. The EPA has determined this revision is no less stringent than the corresponding federal regulation. Therefore, the EPA intends to approve this revision to the state of Illinois Public Water System Supervision Program, thereby giving Illinois Environmental Protection Agency primary enforcement responsibility for this regulation.

DATES: Any interested party may request a public hearing on this determination. A request for a public hearing must be submitted by September 8, 2020. The EPA Region 5 Administrator may deny frivolous or insubstantial requests for a hearing. However, if a substantial request for a public hearing is made by September 8, 2020, EPA Region 5 will hold a public hearing, and a notice of such hearing will be published in the Federal Register and a newspaper of general circulation. Any request for a public hearing shall include the following information: the name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity. If EPA Region 5 does not receive a timely and appropriate request for a hearing and the Regional Administrator does not elect to hold a hearing on his own motion, this determination shall become final and effective on September 8, 2020 and no further public notice will be issued.

ADDRESSES: All documents relating to this determination are available for inspection at the following offices between the hours of 9 a.m. and 4 p.m., Monday through Friday, except for official holidays and unless the offices are inaccessible due to COVID 19: Illinois Environmental Protection Agency, 1021 North Grand Avenue East, P.O. Box 19276, Springfield, Illinois 62794-9276; and the U.S. Environmental Protection Agency Region 5, Ground Water and Drinking Water Branch (WG-15J), 77 W Jackson Blvd., Chicago, IL 60604. Requestors can email Cynthia Meyer, meyer.cynthia@epa.gov, to receive documents related to this determination if offices are inaccessible.

FOR FURTHER INFORMATION CONTACT: Cynthia Meyer, EPA Region 5, Ground Water and Drinking Water Branch, at the address given above, by telephone at 312-886-5868, or at meyer.cynthia@epa.gov.

Authority: Section 1413 of the Safe Drinking Water Act, 42 U.S.C. 300g-2, and the federal regulations implementing Section 1413 of the Act set forth at 40 CFR part 142.

Dated: July 30, 2020.
Kurt Thiede,
Regional Administrator, Region 5.

[FR Doc. 2020-17162 Filed 8-5-20; 8:45 am]

BILLING CODE 6560-50-P